FEDERAL RESERVE SYSTEM

Formations of, Acquisitions by, and Mergers of Bank Holding Companies; Correction

This notice corrects a notice (FR Doc. 2011-23321) published on page 56455 of the issue for Tuesday, September 13, 2011.

Under the Federal Reserve Bank of Atlanta heading, the entry for Trade Street Holdings, LLC Trade Street BFHI Holdings, LLC, both in Aventura Florida, and Florida Carpenters Regional Council Pension Fund, Hialeah, Florida, is revised to read as follows:

A. Federal Reserve Bank of Atlanta (Chapelle Davis, Assistant Vice President) 1000 Peachtree Street, NE., Atlanta, Georgia 30309:

1. Trade Street Investment Services, LLC; Trade Street BFHI Holdings, LLC; Trade Street Financial Holdings, LLC, all in Aventura, Florida, and Florida Carpenters Regional Council Pension Fund, Hialeah, Florida; to become bank holding companies by acquiring 52.41 percent of the voting shares of Broward Financial Holdings, Inc., and its subsidiary, Broward Bank of Commerce, both in Fort Lauderdale, Florida.

Comments on this application must be received by October 7, 2011.

Board of Governors of the Federal Reserve System, September 13, 2011.
Robert deV. Frierson,
Deputy Secretary of the Board.

[FR Doc. 2011-23854 Filed 9-16-11; 8:45 am]

BILLING CODE 6210-01-P